DEPARTMENT OF TRANSPORTATION

Federal Railroad Administration

[Docket No. FRA-2013-0002-N-25]

Proposed Agency Information Collection Activities; Comment Request

AGENCY: Federal Railroad Administration (FRA), Department of Transportation (DOT).

ACTION: Notice and Request for Comments.

SUMMARY: In compliance with the Paperwork Reduction Act of 1995, this notice announces that the Information Collection Requests (ICRs) abstracted below are being forwarded to the Office of Management and Budget (OMB) for review and comment. The ICRs describes the nature of the information collections and their expected burdens. The Federal Register notice with a 60-day comment period soliciting comments on the following collections of information was published on September 25, 2013 (78 FR 59086).

DATES: Comments must be submitted on or before January 17, 2014.

FOR FURTHER INFORMATION CONTACT: Mr. Robert Brogan, Office of Planning and Evaluation Division, RRS-21, Federal Railroad Administration, 1200 New Jersey Ave. SE., Mail Stop 25, Washington, DC 20590 (Telephone: (202) 493-6292), or Ms. Kimberly Toone, Office of Information Technology, RAD-20, Federal Railroad Administration, 1200 New Jersey Ave. SE., Mail Stop 35, Washington, DC 20590 (Telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On September 25, 2013, FRA published a 60-day notice in the Federal Register soliciting comment on ICRs that the agency was seeking OMB approval. See 78 FR 59086. FRA received no comments after issuing this notice. Accordingly, these information collection activities have been re-evaluated and certified under 5 CFR 1320.5(a) and are being forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection requirements (ICRs) and the expected burden. The revised requirements are being submitted for clearance by OMB as required by the PRA.

Title: Emergency Order No. 28, Notice No. 1.

OMB Control Number: 2130-0601.

Type of Request: Regular Clearance with no change of a current collection approved in August 2013 for six months under Emergency Clearance Procedures.

Affected Public: Railroads.

Form(s): N/A.

Abstract: FRA has determined that public safety compelled the issuance of Emergency Order No. 28, which requires railroads operating on the general system of transportation to implement additional processes and procedures to ensure that unattended trains and vehicles on mainline track or sidings are properly secured against unintended movement. Emergency Order No. 28 was published in the Federal Register on August 7, 2013, in response to the catastrophic accident that occurred in Lac-Mégantic, Quebec, Canada, on July 6, 2013. See 78 FR 48218. Emergency Order No. 28 is intended to address some of the human factors failures that may cause unattended equipment to be improperly secured in order to protect the general public and communities near the general system of rail transportation and railroad equipment that is used on it against derailment situations similar to that which occurred at Lac-Mégantic.

The collection of information is being used by FRA to ensure that railroads and their employees fulfill all the requirements that are set out in the Emergency Order. Among other purposes, FRA will use the information collected to verify that railroads develop, adopt, and comply with a plan that identifies specific locations and circumstances when a train or vehicle transporting the type and quantity of hazardous materials described in Appendix A of this Emergency Order shall be left unattended on a mainline track or mainline siding outside of a yard or terminal. FRA will also use the collection of information to confirm that railroads review and verify and adjust, as necessary, existing procedures and processes related to the number of hand brakes to be set on all unattended trains and equipment. Railroads must ensure the means of verifying that the number is appropriate. FRA will use the collection of information to enforce compliance, where necessary.

Annual Estimated Burden: 229,643 hours.

Title: Special Notice for Repairs.

Addressee: Send comments regarding these information collections to the Office of Information and Regulatory Affairs, Office of Management and Budget, 725 Seventeenth Street NW., Washington, DC, 20503, Attention: FRA Desk Officer. Comments may also be sent via email to OMB at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on December 12, 2013.
Rebecca Pennington,
Chief Financial Officer.

[FR Doc. 2013-30026 Filed 12-17-13; 8:45 am]

BILLING CODE 4910-06-P